DEPARTMENT OF JUSTICE

Office of Justice Programs

[OJP (NIJ) Docket No. 1550]

Protective Helmet Standard Special Technical Committee Request for Proposals for Certification and Testing Expertise

AGENCY: National Institute of Justice, DOJ.

ACTION: Request for Proposals for Certification and Testing Expertise.

SUMMARY: The National Institute of Justice (NIJ) is in the process of developing a new Protective (possibly including both ballistic and riot protection) Helmet Standard and corresponding certification program requirements. This work will be performed by a Special Technical Committee (STC), comprised of practitioners from the field, researchers, testing experts, certification experts, and representatives from stakeholder organizations. It is anticipated that the STC members will participate in up to twelve 2-day meetings over an 18-month time period with the goal of completing development of the standard and certification program requirements.

It is anticipated that STC meetings will begin in June 2011. Travel expenses and per diem will be reimbursed for all STC meetings; however, participation time will not be funded. NIJ is seeking representatives from (1) certification bodies and (2) test laboratories with experience in programs for similar types of personal protective equipment. Additional preferred knowledge includes experience with ballistic testing or experience with law enforcement operations. There are up to four positions to be filled on the STC, and NIJ will accept the first 20 submissions for review. Interested parties are requested to nominate individuals from their organizations and submit no more than two pages describing the nominee's applicable experience, preferred knowledge, and affiliations with standards development organizations. To be considered, there must not be any conflict of interest in which the proposed STC member has a direct financial relationship with manufacturers of protective helmets.

Debra Stoe is the NIJ Program Manager responsible for this work, and Jim Wong is the point of contact for Ms. Stoe. Responses to this request for proposals shall be submitted to Jim Wong at jim.wong@srnl.doe.gov by May 13, 2011. The submissions will be reviewed, and participants will be notified regarding their acceptance by May 20, 2011.

FOR FURTHER INFORMATION CONTACT: Jim Wong by telephone at 803-725-5721 [Note: this is not a toll-free telephone number], or by e-mail at jim.wong@srnl.doe.gov.

John H. Laub,
Director, National Institute of Justice.

[FR Doc. 2011-9907 Filed 4-22-11; 8:45 am]

BILLING CODE 4410-18-P